DEPARTMENT OF JUSTICE

Antitrust Division

Notice Pursuant to the National Cooperative Research and Production Act of 1993—X12 Incorporated

Notice is hereby given that, on February 11, 2019, pursuant to Section 6(a) of the National Cooperative Research and Production Act of 1993, 15 U.S.C. 4301 et seq. (“the Act”), X12 Incorporated (“X12”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: X12 Incorporated, McClean, VA. The nature and scope of X12's standards development activities are: The development and maintenance of cross industry e-commerce standards that improve business process interoperability and facilitate business information exchange supporting the finance, government, supply chain, transportation and insurance industries and associated business partners.

Suzanne Morris,
Chief, Premerger and Division Statistics Unit, Antitrust Division.

[FR Doc. 2019-04010 Filed 3-5-19; 8:45 am]

BILLING CODE 4410-11-P